DEPARTMENT OF HEALTH AND HUMAN SERVICES

National Institutes of Health

Office of the Director, National Institutes of Health; Notice of Meetings

Pursuant to section 10(a) of the Federal Advisory Committee Act, as amended (5 U.S.C. appendix 2), notice is hereby given of meetings of the Director's Council of Public Representatives.

The meetings will be open to the public, with attendance limited to space available. Individuals who plan to attend and need special assistance, such as sign language interpretation or other reasonable accommodations, should notify the Contact Person listed below in advance of the meeting.

Name of Committee: Director's Council of Public Representatives; COPR Agenda Subcommittee.

Date: March 18, 2004.

Time: 3:30 p.m. to 5 p.m.

Agenda: Ideas and information will be presented to COPR members to get the Council's ideas and final decisions on the April 2004 meeting agenda to be approved by the NIH Director. The group will discuss administrative business, future agenda items, topics of importance, and specific items for the April meeting, such as, public trust and a briefing by the workgroup on public input and participation.

Place: National Institutes of Health, Building 2, Conference Room 1E28, 9000 Rockville Pike, Bethesda, MD 20892 (Telephone Conference Call).

Contact Person: Jennifer E. Gorman Vetter, NIH Public Liaison/COPR Coordinator, Office of Communications and Public Liaison, Office of the Director, National Institutes of Health, 9000 Rockville Pike, Building 1, Room 344, Bethesda, MD 20892, (301) 435-4448, gormanj@od.nih.gov.

This notice is being published less than 15 days prior to the meeting due to the organizational process of scheduling availability of membership participation.

Name of Committee: Director's Council of Public Representatives, COPR Agenda Subcommittee.

Date: April 1, 2004.

Time: 3:30 p.m. to 5 p.m.

Agenda: Ideas and information will be presented to COPR members to get the Council's ideas and final decisions on the April 2004 meeting agenda to be approved by the NIH Director. The group will discuss administrative business, future agenda items, topics of importance, and specific items for the April meeting, such as, public trust and a briefing by the workgroup on public input and participation.

Place: National Institutes of Health, Building 2, Conference Room 1E28, 9000 Rockville Pike, Bethesda, MD 20892 (Telephone Conference Call).

Contact Person: Jennifer E. Gorman Vetter, NIH Public Liaison/COPR Coordinator, Office of Communications and Public Liaison, Office of the Director, National Institutes of Health, 9000 Rockville Pike, Building 1, Room 344, Bethesda, MD 20892, (301) 435-4448, gormanj@od.nih.gov.

Any interested person may file written comments with the committee by forwarding the statement to the Contact Person listed on this notice. The statement should include the name, address, telephone number and when applicable, the business or professional affiliation of the interested person.

In the interest of security, NIH has instituted stringent procedures for entrance into the building by non-governmental employees. Persons without a government I.D. will need to show a photo I.D. and sign-in at the security desk upon entering the building.

Information is also available on the Institute's/Center's Home page: http://www.nih.gov/about/publicliaison/index.html, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)
Dated: March 8, 2004.
LaVerne Y. Stringfield,
Director, Office of Federal Advisory Committee Policy.

[FR Doc. 04-5724 Filed 3-12-04; 8:45 am]

BILLING CODE 4140-01-M